DEPARTMENT OF DEFENSE

Department of the Army

Advisory Committee Meeting Notice

AGENCY: Department of the Army, DOD.

ACTION: Notice of meeting.

SUMMARY: In accordance with Section 10(a)(2) of the Federal Advisory Committee Act (Pub. L. 92-463), announcement is made of the following meeting:

Name of Committee: Distance Learning/Training Technology Applications Subcommittee of the Army Education Advisory Committee.

Date: July 19-20, 2006.

Place: U.S. Army War College, Carlisle, PA.

Time: 0800-1630 on 19 July 2006; 0800-1600 on 20 July 2006.

Proposed Agenda: The meeting agenda includes updates on The Army Distributed Learning Program (TADLP) and infrastructure, review of selected courseware, and discussions focused on learning and technology.

Purpose of the Meeting: To provide for the continuous exchange of information and ideas for distance learning between the U.S. Army Training and Doctrine Command (TRADOC), HQ, Department of the Army, and the academic and business communities.

FOR FURTHER INFORMATION CONTACT: All communications regarding this subcommittee should be addressed to Mr. Carlton Hardy, at HQ, TRADOC, ATTN: ATTG-CL (Mr. Hardy), Fort Monroe, VA 23651-5000; e-mail carlton.hardy@us.army.mil.

SUPPLEMENTARY INFORMATION: Meeting of the advisory committee is open to the public. Because of restricted meeting space, attendance will be limited to those persons who have notified the Advisory Committee Management Office, in writing, at least 5 days prior to the meeting of their intention to attend. Contact Mr. Hardy for meeting agenda and specific locations.

Any member of the public may file a written statement with the committee before, during, or after the meeting. To the extent that time permits, the committee chairman may allow public presentations or oral statements at the meeting.

Robert E. Seger,
Senior Executive Service, Assistant Deputy Chief of Staff for Operations and Training.

[FR Doc. 06-5446 Filed 6-15-06; 8:45 am]

BILLING CODE 3710-08-M